THE NATIONAL FOUNDATION FOR THE ARTS AND THE HUMANITIES

Institute of Museum and Library Services

Notice of Proposed Information Collection Request: Community Catalyst: The Role of Libraries and Museums in Community Transformation (Community Catalyst)—A National Leadership Grants Special Initiative

AGENCY: Institute of Museum and Library Services, National Foundation for the Arts and the Humanities.

ACTION: Notice, request for comments, collection of information.

SUMMARY: The Institute of Museum and Library Service (“IMLS”) as part of its continuing effort to reduce paperwork and respondent burden, conducts a pre-clearance consultation program to provide the general public and federal agencies with an opportunity to comment on proposed and/or continuing collections of information in accordance with the Paperwork Reduction Act (44 U.S.C. 3501 et seq.). This pre-clearance consultation program helps to ensure that requested data can be provided in the desired format, reporting burden (time and financial resources) is minimized, collection instruments are clearly understood, and the impact of collection requirements on respondents can be properly assessed. The purpose of this Notice is to solicit comments concerning The Role of Libraries and Museums in Community Transformation (Community Catalyst)—A National Leadership Grants Special Initiative.

A copy of the proposed information collection request can be obtained by contacting the individual listed below in the ADDRESSES section of this notice.

DATES: Written comments must be submitted to the office listed in the ADDRESSES section below on or before January 5, 2017.

The IMLS is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the documents contact: Dr. Marvin Carr, Senior Advisor, STEM and Community Engagement, Institute of Museum and Library Services, 955 L'Enfant Plaza North SW., Suite 4000, Washington, DC 20024. Dr. Carr can be reached by telephone: 202-653-4752; fax: 202-653-4603; email: mcarr@imls.gov or by teletype (TTY/TDD) for persons with hearing difficulty at 202-653-4614.

SUPPLEMENTARY INFORMATION:

I. Background

The Institute of Museum and Library Services is the primary source of federal support for the Nation's 123,000 libraries and 35,000 museums. The Institute's mission is to inspire libraries and museums to advance innovation, learning and civic engagement. We provide leadership through research, policy development, and grant making. IMLS provides a variety of grant programs to assist the Nation's museums and libraries in improving their operations and enhancing their services to the public. (20 U.S.C. 9101 et seq.).

II. Current Actions

To administer The Role of Libraries and Museums in Community Transformation (Community Catalyst)—A National Leadership Grants Special Initiative. National Leadership Grants for Libraries (NLG-Libraries) and National Leadership Grants for Museums (NLG-Museums), under which this special initiative falls, support projects that address challenges faced by the library and museum fields and that have the potential to advance practice in those fields. Successful projects will generate results such as new tools, research findings, models, services, practices, or alliances that can be widely used, adapted, scaled, or replicated to extend the benefits of federal investment. This special joint NLG-Libraries and NLG-Museums initiative invites proposals for development and testing of approaches to deepen and sustain the collaborative work that libraries and museums engage in with their communities. Funded projects will create a foundation for enhanced collective impact in communities, especially working with those from diverse economic, social, and cultural backgrounds and will involve key partners such as community service organizations, government entities, and/or funders.

This funding opportunity may include grants and/or cooperative agreements. We will seek proposals that use approaches grounded in community innovation labs; such processes help to build understanding and develop options when complex social problems affect many stakeholders. They are effective where no one entity is accountable for solving the problem, no one solution is sufficient for solving the problem, and current solutions are insufficient. Labs draw on diverse perspectives about a problem to make sense of an issue and focus on rapid experimentation to surface and adapt solutions to problems. By bringing together stakeholders with a collective blend of knowledge and experience with various aspects of local place and social wellbeing, these individuals and organizations can co-create, and test solutions together in ways that they could not have done on their own. Participants will seek to help their local community collaborate across sectors, question old assumptions, develop deep understandings of local system dynamics, explore solutions that leverage existing community assets and yield innovative responses, and rehearse potential strategies for change that include drawing upon museums and libraries.

This process will help to advance our understanding of what is currently occurring in a community and where there are different leverage points to effect change. The desired goal is to help catalyze civic revitalization with the active involvement of key community assets, museums and libraries.

Agency: Institute of Museum and Library Services.

Title: The Role of Libraries and Museums in Community Transformation (Community Catalyst)—A National Leadership Grants Special Initiative.

OMB Number: TBD.

Agency Number: 3137.

Frequency: One time.

Affected Public: Libraries, agencies, institutions of higher education, museums, and other entities that advance the museum and library fields and that meet the eligibility criteria.

Number of Respondents: 15.

Estimated Time per Respondent: 40 hours.

Total Burden Hours: 1,480.

Total Annualized Cost to Respondents: $43,805.

Total Annualized Capital/Startup Costs: 0.

Total Annualized Cost to Federal Government: $7,608.

Public Comments Invited: Comments submitted in response to this notice will be summarized and/or included in the request for OMB's clearance of this information collection.

FOR FURTHER INFORMATION CONTACT: Stephanie Burwell, Chief Information Officer, Office of the Chief Information Officer, Institute of Museum and Library Services, 955 L'Enfant Plaza North SW., Suite 4000, Washington, DC 20024-2135. Mrs. Burwell can be reached by Telephone: 202-653-4684, Fax: 202-653-4625, or by email at sburwell@imls.gov or by teletype (TTY/TDD) at 202-653-4614. Office hours are from 8:30 a.m. to 5 p.m., E.T., Monday through Friday, except Federal holidays.

Dated: November 2, 2016.
Kim A. Miller,
Grants Management Specialist, Office of the Chief Financial Officer.

[FR Doc. 2016-26894 Filed 11-7-16; 8:45 am]

BILLING CODE 7036-01-P